DEPARTMENT OF TRANSPORTATION

Federal Aviation Administration

14 CFR Part 39

[Docket No. FAA-2021-0711; Project Identifier 2019-CE-024-AD]

RIN 2120-AA64

Airworthiness Directives; Pacific Aerospace Limited Airplanes

AGENCY: Federal Aviation Administration (FAA), DOT.

ACTION: Notice of proposed rulemaking (NPRM).

SUMMARY: The FAA proposes to adopt a new airworthiness directive (AD) for certain Pacific Aerospace Limited Model 750XL airplanes. This proposed AD was prompted by mandatory continuing airworthiness information (MCAI) originated by an aviation authority of another country to identify and correct an unsafe condition on an aviation product. The MCAI describes the unsafe condition as chafing of the engine fuel feed line hoses. This proposed AD would require inspecting the engine fuel feed line hoses and the electrical wiring and rerouting all fuel lines. The FAA is proposing this AD to address the unsafe condition on these products.

DATES: The FAA must receive comments on this proposed AD by October 12, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

For service information identified in this NPRM, contact the Civil Aviation Authority of New Zealand, Level 15, Asteron Centre, 55 Featherston Street, Wellington 6011; phone: + 64 4 560 9400; fax: + 64 4 569 2024; email: info@caa.govt.nz. You may view this service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2021-0711; or in person at Docket Operations between 9 a.m. and 5 p.m., Monday through Friday, except Federal holidays. The AD docket contains this NPRM, the MCAI, any comments received, and other information. The street address for Docket Operations is listed above.

FOR FURTHER INFORMATION CONTACT: Mike Kiesov, Aviation Safety Engineer, General Aviation & Rotorcraft Section, International Validation Branch, FAA, 901 Locust, Room 301, Kansas City, MO 64106; phone: (816) 329-4144; fax: (816) 329-4090; email: mike.kiesov@faa.gov.

SUPPLEMENTARY INFORMATION:

Comments Invited

The FAA invites you to send any written relevant data, views, or arguments about this proposal. Send your comments to an address listed under ADDRESSES. Include “Docket No. FAA-2021-0711; Project Identifier 2019-CE-024-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Mike Kiesov, Aviation Safety Engineer, General Aviation & Rotorcraft Section, International Validation Branch, FAA, 901 Locust, Room 301, Kansas City, MO 64106. Any commentary that the FAA receives which is not specifically designated as CBI will be placed in the public docket for this rulemaking.

Background

The Civil Aviation Authority (CAA), which is the aviation authority for New Zealand, has issued AD No. DCA/750XL/37, effective April 25, 2019 (referred to after this as “the MCAI”), to correct an unsafe condition for certain Pacific Aerospace Limited Model 750XL airplanes. The MCAI states:

DCA/750XL/37 is prompted by a review of the installation of the engine fuel lines and the electrical installation forward of the engine firewall on aircraft fitted with an air conditioner and/or a standby alternator, including those aircraft configured for the installation of an air conditioner and/or a standby alternator. It was found that the engine fuel feed lines hoses could possibly chafe against the adjacent electrical wiring and the ignition exciter, which could result in a fuel leak and possible fire. The [CAA] AD is issued to introduce the corrective actions in Pacific Aerospace Mandatory Service Bulletin (MSB) PACSB/XL/113 issue 2, dated 8 March 2019.

You may examine the MCAI in the AD docket at https://www.regulations.gov by searching for and locating Docket No. FAA-2021-0711.

Related Service Information Under 1 CFR Part 51

The FAA reviewed Pacific Aerospace Mandatory Service Bulletin PACSB/XL/113, Issue 2, dated March 8, 2019. The service information contains procedures for inspecting the engine fuel feed line hoses and the electrical wiring for chafing or damage, rerouting all fuel lines and the fuel transducer and pressure switch wiring (including installing P clips), and inspecting the fuel hose for chafing and replacing chafed fire sleeves or fuel hoses if necessary. This service information is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and service information referenced above. The FAA is issuing this NPRM after determining the unsafe condition described previously is likely to exist or develop on other products of the same type design.

Proposed AD Requirements in This NPRM

This proposed AD would require accomplishing the actions specified in the service information described previously, except as discussed under “Differences Between this Proposed AD and the MCAI.”

Differences Between This Proposed AD and the MCAI

The MCAI requires an inspection at the next 150 hour maintenance inspection or within the next 50 hours time-in-service (TIS), whichever occurs later, while this proposed AD would require those actions within 50 hours TIS or at the next annual inspection after the effective date of this AD, whichever occurs later. If there is no chafing and damage found during the inspection, the MCAI requires certain follow-on actions at the next 300 hour maintenance inspection or within the next 50 hours TIS, whichever is later. This proposed AD would require those actions within 50 hours TIS or at the next annual inspection, whichever occurs later, because there is no regulatory requirement for operators in the U.S. to have 150-hour or 300-hour maintenance inspections.

Costs of Compliance

The FAA estimates that this AD, if adopted as proposed, would affect 23 airplanes of U.S. registry. The FAA also estimates that it would take about 5 work-hours per airplane and require parts costing $20 per airplane to comply with the inspection and re-routing that would be required by this proposed AD. The average labor rate is $85 per work-hour.

Based on these figures, the FAA estimates the inspection and re-routing cost of this proposed AD on U.S. operators to be $10,235, or $445 per airplane.

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Pacific Aerospace Limited: Docket No. FAA-2021-0711; Project Identifier 2019-CE-024-AD.

(a) Comments Due Date

The FAA must receive comments on this airworthiness directive (AD) by October 12, 2021.

(b) Affected ADs

None.

(c) Applicability

This AD applies to Pacific Aerospace Limited Model 750XL airplanes, serial numbers 101 through 215 inclusive, 220, 8001, and 8002, certificated in any category, that are fitted with an air conditioner and/or a standby alternator, including airplanes configured for the installation of an air conditioner and/or a standby alternator, as shown in Figure 1 of Part A in Pacific Aerospace Mandatory Service Bulletin PACSB/XL/113, Issue 2, dated March 8, 2019 (MSB PACSB/XL/113, Issue 2).

(d) Subject

Joint Aircraft System Component (JASC) Code 2820, Aircraft Fuel Distribution, and 2497, Electrical Power System Wiring.

(e) Unsafe Condition

This AD was prompted by mandatory continuing airworthiness information (MCAI) originated by an aviation authority of another country to identify and address an unsafe condition on an aviation product. The MCAI describes the unsafe condition as chafing of the engine fuel feed line hoses. The FAA is issuing this AD to prevent chafing of the engine fuel feed line hoses with electrical wiring and the ignition exciter located forward of the engine firewall. The unsafe condition, if not addressed, could result in a fuel leak and fire.

(f) Compliance

Comply with this AD within the compliance times specified, unless already done.

(g) Required Actions

Within 50 hours time-in-service (TIS) or at the next annual inspection after the effective date of this AD, whichever occurs later, inspect the engine fuel feed line hoses and the electrical wiring for chafing and damage in accordance with the Accomplishment Instructions, Part A steps 3) and 4), in MSB PACSB/XL/113, Issue 2.

(1) If there is any chafing or damage that penetrates the orange outer covering of the fuel line fire sleeve or if there is any chafed or damaged electrical wiring, before further flight, inspect the fuel hose for chafing, replace any chafed fire sleeve or fuel hose, and reroute all fuel lines in accordance with the Accomplishment Instructions, Part B, in MSB PACSB/XL/113, Issue 2.

(2) If there are no chafed or damaged engine fuel feed line hoses and no chafed or damaged electrical wiring, within 50 hours TIS or at the next annual inspection, whichever occurs later, reroute all fuel lines in accordance with the Accomplishment Instructions, Part B, in MSB PACSB/XL/113, Issue 2.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information or email: 9-AVS-AIR-730-AMOC@faa.gov.

(2) Before using any approved AMOC, notify your appropriate principal inspector, or lacking a principal inspector, the manager of the local flight standards district office/certificate holding district office.

(i) Related Information

(1) For more information about this AD, contact Mike Kiesov, Aviation Safety Engineer, General Aviation & Rotorcraft Section, International Validation Branch, FAA, 901 Locust, Room 301, Kansas City, MO 64106; phone: (816) 329-4144; fax: (816) 329-4090; email: mike.kiesov@faa.gov.

(2) Refer to Civil Aviation Authority (CAA) of New Zealand AD DCA/750XL/37, effective April 25, 2019, for more information. You may examine the CAA AD in the AD docket at https://www.regulations.gov by searching for and locating it in Docket No. FAA-2021-0711.

(3) For service information identified in this AD, contact the CAA of New Zealand, Level 15, Asteron Centre, 55 Featherston Street, Wellington 6011; phone: + 64 4 560 9400; fax: + 64 4 569 2024; email: info@caa.govt.nz. You may view this service information at the Airworthiness Products Section, Operational Safety Branch, FAA, 901 Locust, Kansas City, MO 64106. For information on the availability of this material at the FAA, call (816) 329-4148.

Issued on August 23, 2021.
Gaetano A. Sciortino,
Deputy Director for Strategic Initiatives, Compliance & Airworthiness Division, Aircraft Certification Service.

[FR Doc. 2021-18444 Filed 8-26-21; 8:45 am]

BILLING CODE 4910-13-P